DEPARTMENT OF HOMELAND SECURITY

Federal Emergency Management Agency

44 CFR Part 65

[Docket ID FEMA-2010-0003; Internal Agency Docket No. FEMA-B-1086]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Tuscaloosa | City of Tuscaloosa (09-04-2835P) | October 12, 2009; October 19, 2009; Tuscaloosa News | The Honorable Walter Maddox, Mayor, City of Tuscaloosa, P.O. Box 2089, Tuscaloosa, AL 35401 | February 16, 2010 | 010203
Arizona: Pinal | Unincorporated areas of Pinal County (09-09-0732P) | October 6, 2009; October 13, 2009; Casa Grande Dispatch | The Honorable Lionel D. Ruiz, Chairman, Pinal County Board of Supervisors, P.O. Box 827, Florence, AZ 85232 | September 24, 2009 | 040077
Arkansas: Benton | City of Rogers (08-06-2995P) | October 6, 2009; October 13, 2009; Morning News | The Honorable Steven A. Womack, Mayor, City of Rogers, 301 West Chestnut Street, Rogers, AR 72756 | February 10, 2010 | 050013
Colorado:
Adams | Unincorporated areas of Adams County (09-08-0729P) | October 8, 2009; October 15, 2009; Northglenn-Thornton Sentinel | The Honorable Larry W. Pace, Chairman, Adams County Board of Commissioners, 450 South 4th Avenue, Brighton, CO 80601 | February 12, 2010 | 080001
Adams | City of Commerce City (09-08-0729P) | October 8, 2009; October 15, 2009; Northglenn-Thornton Sentinel | The Honorable Paul Natale, Mayor, City of Commerce City, 7887 East 60th Avenue, Commerce City, CO 80022 | February 12, 2010 | 080006
Denver | City and County of Denver (09-08-0512P) | October 8, 2009; October 15, 2009; Denver Post | The Honorable John W. Hickenlooper, Mayor, City and County of Denver, 1437 Bannock Street, Suite 350, Denver, CO 80202 | February 12, 2010 | 080046
Denver | City and County of Denver (09-08-0729P) | October 8, 2009; October 15, 2009; Denver Post | The Honorable John W. Hickenlooper, Mayor, City and County of Denver, 1437 Bannock Street, Suite 350, Denver, CO 80202 | February 12, 2010 | 080046
Connecticut: New London | Town of Colchester (09-01-1230P) | October 9, 2009; October 16, 2009; Hartford Courant | The Honorable Linda Hodge, First Selectman, Town of Colchester, 127 Norwich Avenue, Colchester, CT 06415 | February 15, 2010 | 090095
Georgia: Cobb | Unincorporated areas of Cobb County (09-04-1602P) | October 9, 2009; October 16, 2009; Marietta Daily Journal | The Honorable Samuel S. Olens, Chairman, Cobb County Board of Commissioners, 100 Cherokee Street, Marietta, GA 30090 | February 15, 2010 | 130052
Illinois: Will | Unincorporated areas of Will County (09-05-3054P) | October 7, 2009; October 14, 2009; Herald News | The Honorable Lawrence M. Walsh, Will County Executive, 302 North Chicago Street, Joliet, IL 60432 | September 23, 2009 | 170695
North Carolina:
Craven | Unincorporated areas of Craven County (09-04-6122P) | October 7, 2009; October 14, 2009; Sun Journal | Mr. Harold Blizzard, Craven County Manager, 406 Craven Street, New Bern, NC 28560 | February 11, 2010 | 370072
Durham | City of Durham (08-04-4999P) | August 27, 2009; September 3, 2009; The Herald-Sun | The Honorable William V. Bell, Mayor, City of Durham, 101 City Hall Plaza, Durham, NC 27701 | January 4, 2010 | 370086
Tennessee:
Williamson | City of Brentwood (08-04-0312P) | October 8, 2009; October 15, 2009; Williamson A.M | The Honorable Betsy Crossley, Mayor, City of Brentwood, 5211 Maryland Way, Brentwood, TN 37027 | September 22, 2009 | 470205
Williamson | City of Franklin (08-04-0312P) | October 8, 2009; October 15, 2009; Williamson A.M | The Honorable John Schroer, Mayor, City of Franklin, 109 3rd Avenue South, Franklin, TN 37064 | September 22, 2009 | 470206
Texas:
Bexar | Unincorporated areas of Bexar County (09-06-0765P) | October 9, 2009; October 16, 2009; Daily Commercial Recorder | The Honorable Nelson W. Wolff, Bexar County Judge, 100 Dolorosa Street, Suite 120, San Antonio, TX 78205 | February 15, 2010 | 480035
Bexar | City of San Antonio (09-06-0765P) | October 9, 2009; October 16, 2009; Daily Commercial Recorder | The Honorable Julian Castro, Mayor, City of San Antonio, P.O. Box 839966, San Antonio, TX 78283 | February 15, 2010 | 480045
Brazos | City of Bryan (09-06-1530P) | October 8, 2009; October 15, 2009; Bryan-College Station Eagle | The Honorable D. Mark Conlee, Mayor, City of Bryan, 300 South Texas Avenue, Bryan, TX 77803 | February 12, 2010 | 480082
Dallas | City of Balch Springs (09-06-0149P) | October 9, 2009; October 16, 2009; Daily Commercial Record | The Honorable Carrie Gordon, PhD., Mayor, City of Balch Springs, 3117 Hickory Tree Road, Balch Springs, TX 75180 | February 15, 2010 | 480166
Harris | Unincorporated areas of Harris County (09-06-0531P) | October 12, 2009; October 19, 2009; Houston Chronicle | The Honorable Edward Emmett, Harris County Judge, 1001 Preston Street, Suite 911, Houston, TX 77002 | February 16, 2010 | 480287
Travis | City of Austin (09-06-1935P) | October 12, 2009; October 19, 2009; Austin American Statesman | The Honorable Lee Leffingwell, Mayor, City of Austin, P.O. Box 1088, Austin, TX 78767 | February 16, 2010 | 480624
Travis | City of Austin (09-06-2006P) | October 12, 2009; October 19, 2009; Austin American Statesman | The Honorable Lee Leffingwell, Mayor, City of Austin, P.O. Box 1088, Austin, TX 78767 | September 30, 2009 | 480624
Virginia: Fairfax | Unincorporated areas of Fairfax County (09-03-0421P) | October 12, 2009; October 19, 2009; Washington Times | The Honorable Sharon Bulova, Chairman, Fairfax County Board of Supervisors, 12000 Government Center Parkway, Suite 530, Fairfax, VA 22035 | February 16, 2010 | 515525

(Catalog of Federal Domestic Assistance No. 97.022, “Flood Insurance.”)

Dated: March 18, 2010.
Edward L. Connor,
Acting Federal Insurance and Mitigation Administrator, Mitigation, Department of Homeland Security, Federal Emergency Management Agency.

[FR Doc. 2010-8079 Filed 4-8-10; 8:45 am]

BILLING CODE 9110-12-P